DEPARTMENT OF THE INTERIOR

Fish and Wildlife Service

[FWS-R8-ES-2022-N036; FXES11130800000-223-FF08E00000]

Endangered and Threatened Species; Receipt of Recovery Permit Applications

AGENCY: Fish and Wildlife Service, Interior.

ACTION: Notice of receipt of permit applications; request for comments.

SUMMARY: We, the U.S. Fish and Wildlife Service, have received applications for permits to conduct activities intended to enhance the propagation or survival of endangered or threatened species under the Endangered Species Act. We invite the public and local, State, Tribal, and Federal agencies to comment on these applications. Before issuing any of the requested permits, we will take into consideration any information that we receive during the public comment period.

DATES: We must receive your written comments on or before September 2, 2022.

ADDRESSES: Document availability and comment submission: Submit requests for copies of the applications and related documents and submit any comments by one of the following methods. All requests and comments should specify the applicant name(s) and application number(s) (e.g., XXXXXX or PER0001234).

• Email: permitsR8ES@fws.gov.

• U.S. Mail: Susie Tharratt, Regional Recovery Permit Coordinator, U.S. Fish and Wildlife Service, 2800 Cottage Way, Room W-2606, Sacramento, CA 95825.

FOR FURTHER INFORMATION CONTACT: Susie Tharratt, via phone at 916-414-6561, or via email at permitsR8ES@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service, invite the public to comment on applications for permits under section 10(a)(1)(A) of the Endangered Species Act, as amended (ESA; 16 U.S.C. 1531 et seq.). The requested permits would allow the applicants to conduct activities intended to promote recovery of species that are listed as endangered or threatened under the ESA.

Background

With some exceptions, the ESA prohibits activities that constitute take of listed species unless a Federal permit is issued that allows such activity. The ESA's definition of “take” includes such activities as pursuing, harassing, trapping, capturing, or collecting, in addition to hunting, shooting, harming, wounding, or killing.

A recovery permit issued by us under section 10(a)(1)(A) of the ESA authorizes the permittee to conduct activities with endangered or threatened species for scientific purposes that promote recovery or for enhancement of propagation or survival of the species. These activities often include such prohibited actions as capture and collection. Our regulations implementing section 10(a)(1)(A) for these permits are found in the Code of Federal Regulations at 50 CFR 17.22 for endangered wildlife species, 50 CFR 17.32 for threatened wildlife species, 50 CFR 17.62 for endangered plant species, and 50 CFR 17.72 for threatened plant species.

Permit Applications Available for Review and Comment

Proposed activities in the following permit requests are for the recovery and enhancement of propagation or survival of the species in the wild. The ESA requires that we invite public comment before issuing these permits. Accordingly, we invite local, State, Tribal, and Federal agencies and the public to submit written data, views, or arguments with respect to these applications. The comments and recommendations that will be most useful and likely to influence agency decisions are those supported by quantitative information or studies.

Application No. | Applicant, city, state | Species | Location | Take activity | Permit action
PER0045066 | Zachary E. Leisz, West Sacramento, California | • California tiger salamander (Ambystoma californiense), Sonoma County and Santa Barbara County distinct population segments | CA | Survey, capture, handle, and release | New.
98083C | Sarah Willbrand, San Francisco, California | • California tiger salamander (Ambystoma californiense), Sonoma County and Santa Barbara County distinct population segments | CA | Survey, capture, handle, and release | Renew.
825573 | Brian Cypher, Bakersfield, California | • Tipton kangaroo-rat (Dipodomys nitratoides nitratoides) • San Joaquin kit fox (Vulpes macrotis mutica) • Blunt-nose leopard lizard (Gambelia silus) • Fresno kangaroo-rat (Dipodomys nitratoides exilis) • Buena Vista Lake ornate shrew (Sorex ornatus relictus) • Giant kangaroo-rat (Dipodomys ingens) • Bakersfield cactus (Opuntia treleasei) | CA | Capture, handle, mark, insert PIT (passive integrated transponder) tag, attach/remove radio transmitters, take biological samples, hold in captivity, release, provide treatment for sarcoptic mange, and collect tissue, seeds, and whole plants | Renew.
PER0045091 | Environmental Solutions and Innovations, Inc., Cincinnati, Ohio | • Quino checkerspot butterfly (Euphydryas editha quino) • Franklin's bumble bee (Bombus franklini) | CA, OR | Pursue | New.
067064 | Lindsay Messett, Long Beach, California | • Quino checkerspot butterfly (Euphydryas editha quino) • Southwestern willow flycatcher (Empidonax traillii extimus) • El Segundo blue butterfly (Euphilotes battoides allyni) | CA | Pursue, play recorded vocalizations, capture, handle, and release | Renew and Amend.
227185 | Andrew Brent Eastty, Alpine, California | • Quino checkerspot butterfly (Euphydryas editha quino) • Southwestern willow flycatcher (Empidonax traillii extimus) | CA, AZ, NM, TX | Pursue, play recorded vocalizations | Renew.
74753B | Stefanie Nisich, San Luis Obispo, California | • California tiger salamander (Ambystoma californiense), Sonoma County and Santa Barbara County distinct population segments | CA | Survey, capture, handle, and release | Renew and Amend.
27501B | Travis Kegel, San Juan Capistrano, California | • Southwestern willow flycatcher (Empidonax traillii extimus) | CA | Play recorded vocalizations | Renew.
PER0045132 | Logan Mccardle, Ponchatoula, Louisiana | • Sierra Nevada yellow-legged Frog (Rana sierrae) | CA | Survey, capture, handle, and release | New.
96514A | Jonathan Aguayo, Buena Park, California | • Southwestern willow flycatcher (Empidonax traillii extimus) | CA | Play recorded vocalizations | Renew.
PER0045140 | Utah State University, (Gary Thiede), Logan, Utah | • Cui-ui (Chasmistes cujus) | NV | Capture, handle, and release | New.
28317A | David Simi, Saratoga, California | • California tiger salamander (Ambystoma californiense), Sonoma County and Santa Barbara County distinct population segments | CA | Survey, capture, handle, and release | Renew.
67570A | Brett Hanshew, Sacramento, California | • San Francisco garter snake (Thamnophis sirtalis tetrataenia) • California tiger salamander (Ambystoma californiense), Sonoma County and Santa Barbara County distinct population segments • Conservancy fairy shrimp (Branchinecta conservatio) • Longhorn fairy shrimp (Branchinecta longiantenna) • Riverside fairy shrimp (Streptocephalus woottoni) • San Diego fairy shrimp (Branchinecta sandiegonensis) • Vernal pool tadpole shrimp (Lepidurus packardi) | CA | Survey, capture, handle, mark, release, collect adult vouchers, and collect branchiopod cysts | Renew.
PER0045160 | Kyle Verblaauw, Pacifica, California | • California tiger salamander (Ambystoma californiense), Sonoma County and Santa Barbara County distinct population segments | CA | Survey, capture, handle, and release | New.
179036 | Cullen Wilkerson, Richmond, CA | • California Ridgway's rail (Rallus [longirostris] obsoletus obsoletus) | CA | Survey, play recorded vocalizations | Amend.
213308 | Joseph DiDonato, Alameda, California | • Salt marsh harvest mouse (Reithrodontomys raviventris) | CA | Capture, handle, tag, collect samples (hair), mark (ear clip), and release | Renew.
86222B | Ethan Ripperger, Ventura, California | Southwestern willow flycatcher (Empidonax traillii extimus) | CA, NV, TX, AZ, NM, CO, UT | Play recorded vocalizations | Renew and Amend.
018909 | Kelly Rios, Brea, California | • Quino checkerspot butterfly (Euphydryas editha quino) • El Segundo blue butterfly (Euphilotes battoides allyni) • San Bernardino kangaroo-rat (Dipodomys merriami parvus) | CA | Pursue, survey, capture, handle, and release | Renew.
PER0045233 | Paul Keating, Citrus Heights, California | • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) | CA | Survey, capture, handle, release, collect adult vouchers, and collect branchiopod cysts | New.
221287 | Diana Saucedo, San Diego, California | • Quino checkerspot butterfly (Euphydryas editha quino) • Riverside fairy shrimp (Streptocephalus woottoni) • San Diego fairy shrimp (Branchinecta sandiegonensis) | CA | Pursue, survey, capture, handle, release, collect adult vouchers, and collect branchiopod cysts | Renew.
077388 | Oregon Zoo (Peter Grimm), Portland, Oregon | • California condor (Gymnogyps californianus) | OR | Receive viable eggs, captive-bred condors, and condors from the wild from the Los Angeles Zoo, the San Diego Zoo and Safari Park, the World Center for Birds of Prey, and condor field sites; handle and provide veterinary care; conduct captive breeding; collect and transfer molted feathers | Renew.
778668 | Bryan Mori, Watsonville, California | • California tiger salamander (Ambystoma californiense), Sonoma County and Santa Barbara County distinct population segments Santa Cruz long-toed salamander (Ambystoma macrodactylum croceum) | CA | Survey, capture, handle, and release | Renew.
081306 | Howard Clark, Clovis, California | • Buena Vista Lake ornate shrew (Sorex ornatus relictus) • Fresno kangaroo-rat (Dipodomys nitratoides exilis) • Giant kangaroo-rat (Dipodomys ingens) • Tipton kangaroo-rat (Dipodomys nitratoides nitratoides) • Morro Bay kangaroo-rat (Dipodomys heermanni morroensis) • San Bernardino Merriam's kangaroo-rat (Dipodomys merriami parvus) • Pacific pocket mouse (Perognathus longimembris pacificus) | CA | Survey, capture, trap, conduct instructional workshops, handle, and release | Renew and Amend.
06873C | Environmental Science Association, San Diego, California | • Light-footed Ridgway's rail (Rallus obsoletus levipes) • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) • Quino checkerspot butterfly (Euphydryas editha quino) | CA | Play recorded vocalizations, pursue, survey by pursuit, survey capture, handle, release, collect adult vouchers, and collect branchiopod cysts | Renew and Amend.
60147A | Heather Moine, Goleta, California | • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) | CA | Survey, capture, handle, release, collect adult vouchers, collect branchiopod cysts | Renew.
PER0045166 | Dustin Janeke, Santee, California | • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) • Quino checkerspot butterfly (Euphydryas editha quino) | CA | Survey, pursue, capture, handle, release, collect adult vouchers, collect branchiopod cysts | Renew.
87004B | Tara Baxter, San Diego, California | • Quino checkerspot butterfly (Euphydryas editha quino) | CA | Pursue | Renew.
36118B | Callie Amoaku, Valley Center, California | • Quino checkerspot butterfly (Euphydryas editha quino) • Casey's June beetle (Dinacoma caseyi) | CA | Survey by pursuit, handle, live capture, and release | Renew.
12511A | Kathryn Allan, San Francisco, California | • Salt marsh harvest mouse (Reithrodontomys raviventris) | CA | Survey, capture, handle, and release | Renew.
094642 | University of California, Los Angeles (Howard Shaffer), Los Angeles, California | • California tiger salamander (Ambystoma californiense), Sonoma County and Santa Barbara County distinct population segments • Santa Cruz long-toed salamander (Ambystoma macrodactylum croceum) | CA | Capture, handle, mark, release, relocate; collect eggs, tissue, or small individuals for genetic analysis; sacrifice or remove from the wild for voucher specimens; test for diseases; keep and study in captivity; and conduct instructional workshops involving field survey methods | Renew and Amend.
64146A | Patricia Valcarel, San Francisco, California | • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) • San Francisco garter snake (Thamnophis sirtalis tetrataenia) | CA | Survey, capture, handle, release, collect adult vouchers, and collect branchiopod cysts | Renew.
02351A | Timothy J. Searl, Searl Biological Services, Hemet, California | • southwestern willow flycatcher (Empidonax traillii extimus) | CA, NV, TX, AZ, NM, CO, UT | Play recorded vocalizations | Renew and Amend.
58862A | Greg Mason, San Diego, California | • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) • Quino checkerspot butterfly (Euphydryas editha quino) | CA | Survey, pursue, capture, handle, release, collect adult vouchers, and collect branchiopod cysts | Renew.
221411 | Center for Natural Lands Management, Temecula, California | • Southwestern willow flycatcher (Empidonax traillii extimus) • Giant kangaroo-rat (Dipodomys ingens) • Stephens' kangaroo-rat (Dipodomys stephensi) • Tipton kangaroo-rat (Dipodomys nitratoides nitratoides) • Morro Bay kangaroo-rat (Dipodomys heermanni morroensis) • San Bernardino Merriam's kangaroo-rat (Dipodomys merriami parvus) • Pacific pocket mouse (Perognathus longimembris pacificus) • California tiger salamander (Ambystoma californiense), Sonoma County and Santa Barbara County distinct population segments • Tidewater goby (Eucyclogobius newberryi) • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) • Quino checkerspot butterfly (Euphydryas editha quino) • San Diego ambrosia (Ambrosia pumila) • Least Bell's vireo (Vireo bellii pusillus) | CA | Play recorded vocalizations; survey, capture, handle, release, conduct habitat restoration, and utilize tracking tubes; locate and monitor nests, and remove brown-headed cowbird (Molothrus ater) eggs and chicks from parasitized nests; collect adult vouchers, and collect branchiopod cysts; pursue; collect tissue, seeds, and whole plants | Renew.
067992 | Dan Dugan, Morro Bay, California | • Tidewater goby (Eucyclogobius newberryi) • Morro shoulderband snail (Helminthoglypta walkeriana) | CA | Survey, capture, handle, measure, relocate, release, collect voucher specimens | Renew.
06145B | Alicia Cooper Hill, San Diego, California | • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) • Quino checkerspot butterfly (Euphydryas editha quino) | CA | Survey, pursue, capture, handle, release, collect adult vouchers, collect branchiopod cysts | Renew.
PER0045259 | Ross J Wilming, San Francisco, California | • California Ridgway's rail (Rallus [longirostris] obsoletus obsoletus) | CA | Play recorded vocalizations | New.
PER0045262 | JBD Environmental Consulting LLC, Pismo Beach, California | • Tidewater goby (Eucyclogobius newberryi) | CA | Survey, capture, handle, measure, relocate, release, collect voucher specimens | New.
054120 | Russell Huddleston, Oakland, California | • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) • Quino checkerspot butterfly (Euphydryas editha quino) • Soft bird's beak (Cordylanthus mollis ssp. mollis) • Ione buckwheat (Eriogonum apricum var. apricum) • Sacramento orcutt grass (Orcuttia viscida) • Solano grass (Tuctoria mucronata) • Contra Costa goldfields (Lasthenia conjugens) • Hartweg's golden sunburst (Pseudobahia bahiifolia) | CA | Capture, handle, release, collect adult vouchers, collect branchiopod cysts, collect tissue, seeds, and whole plants | Renew.
76006B | Zoological Society of San Diego (San Diego Zoo Wildlife Alliance), San Diego, California | • Mountain yellow-legged frog [southern Distinct Population Segment] (Rana muscosa) |  | Capture, handle, measure, mark, tag, and release; attach radio transmitters to captive individuals; conduct radio telemetry; inoculate adults and juveniles in captivity and in the wild with symbiotic bacteria; collect voucher specimens; collect blood, tissue, toe clippings/toe webbing biopsies, and/or urine samples; swab; transport; captive breed and rear; remove infertile eggs from egg masses released from captivity; collect sperm for cryopreservation efforts from wild and captive males; conduct studies in assisted reproduction and hormone treatments in captive breeding; conduct captive research, including disease treatment, behavior, husbandry, reintroduction, and interspecific competition studies; administer veterinary care; euthanize; release to the wild (translocate); conduct predator exposure research in the wild | Renew and Amend.
29522A | Kenneth Gilliland, Ventura, California | • Tidewater goby (Eucyclogobius newberryi) | CA | Capture, handle, measure, relocate, release, and collect voucher specimens | Amend.
92719B | Thomas Dayton, Yorba Linda, California | • Southwestern willow flycatcher (Empidonax traillii extimus) | CA, NV | Play recorded vocalizations | Renew.
139628 | Garcia and Associates, San Francisco, California | • California tiger salamander (Ambystoma californiense), Sonoma County and Santa Barbara County distinct population segments • Sierra Nevada yellow-legged frog (Rana sierrae) | CA | Survey, capture, handle, collect tissues, and release | Renew.
227263 | Emilie Strauss, Berkeley, California | • California Ridgway's rail (Rallus [longirostris] obsoletus obsoletus) | CA | Survey, play recorded vocalizations | Renew.
59234C | Advanced Solution for Earth's Future (Tania Asef) Los Angeles, California | • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) | CA | Survey, capture, handle, release, collect adult vouchers, and collect branchiopod cysts | Renew.
94702B | Kristin Hubbard, Redding, California | • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) | CA | Survey, capture, handle, release, collect adult vouchers, and collect branchiopod cysts | Renew.
PER0045277 | Glen Y. Kinoshita, Lakeside, California | • Riverside fairy shrimp (Streptocephalus woottoni) • San Diego fairy shrimp (Branchinecta sandiegonensis) | CA | Survey, capture, handle, release, collect adult vouchers, and collect branchiopod cysts | New.
029414 | Nathan Moorhatch, La Habra, California | • Delhi Sands flower-loving fly (Rhaphiomidas terminatus abdominalis) • Quino checkerspot butterfly (Euphydryas editha quino) • Casey's June Beetle (Dinacoma caseyi) | CA | Pursue, handle, live-capture and release | Renew.
839078 | Spencer Langdon, San Pedro, California | • California least tern (Sterna antillarum browni) | CA | Harass by survey, locate and monitor nests | Renew.
94719B | Richard Lis, Redding, California | • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) | CA | Survey, capture, handle, release, collect adult vouchers, and collect branchiopod cysts | Renew.
063230 | Jim Rocks, San Diego, California | • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) • Quino checkerspot butterfly (Euphydryas editha quino) | CA | Survey, pursue, capture, handle, release, collect adult vouchers, and collect branchiopod cysts | Renew.
43610A | Jessica Orsolini, Sacramento, California | • California tiger salamander (Ambystoma californiense), Sonoma County and Santa Barbara County distinct population segments | CA | Survey, capture, handle, release | Renew.
99057B | Steve Howard, Ventura, California | • Tidewater goby (Eucyclogobius newberryi) • Unarmored threespine stickleback (Gasterosteus aculeatus williamsoni) | CA | Survey, capture, handle, and release | Renew.
105545 | Wendy Knight, San Luis Obispo, California | • California tiger salamander (Ambystoma californiense), Sonoma County and Santa Barbara County distinct population segments | CA | Survey, capture, handle, release; collect tissue samples; remove and transport hybridized individuals from the wild; and conduct habitat restoration | Renew.
93072A | Joel Mulder, Ventura, California | • Tidewater goby (Eucyclogobius newberryi) • Unarmored threespine stickleback (Gasterosteus aculeatus williamsoni) | CA | Survey, capture, handle, and release | Renew.
92167B | San Francisco Zoological Society (Tanya Peterson), San Francisco, California | • Sierra Nevada yellow-legged frog (Rana sierrae) • Mountain yellow-legged frog [northern Distinct Population Segment] (Rana muscosa) • Yosemite toad (Anaxyrus canorus) | CA, NV | Transport, captive-rear, provide veterinary treatment and husbandry, take skin swabs, clip toes or tails for genetic analysis, mark, provide disease treatment and immunization, perform behavioral and disease research, hold for educational display, release, sacrifice, and necropsy | Renew.
118356 | Olofson Environmental, Inc., Oakland, California | • California Ridgway's rail (Rallus [longirostris] obsoletus obsoletus) | CA | Survey, play recorded vocalizations | Renew.
836491 | Michael Wilcox, Riverside, California | • Delhi Sands flower-loving fly (Rhaphiomidas terminatus abdominalis) • Quino checkerspot butterfly (Euphydryas editha quino) • Casey's June Beetle (Dinacoma caseyi) | CA | Pursue, handle, and live-capture | Renew.
840619 | Jeff Priest, dba Priest Wildlife and Compliance Services, San Diego, California | • Southwestern willow flycatcher (Empidonax traillii extimus) • Quino checkerspot butterfly (Euphydryas editha quino) | CA | Survey, play recorded vocalizations | Renew.
40087B | United States Department of Agriculture Forest Service, Cathy Brown, Sonora, California | • Sierra Nevada yellow-legged frog (Rana sierrae) • Mountain yellow-legged frog [northern Distinct Population Segment] (Rana muscosa) • Yosemite toad (Anaxyrus canorus) | CA | Survey, capture, handle, measure, take skin swabs, clip toes, insert PIT (passive integrated transponder) tags, mark with VIE (visual implant elastomer), attach radio transmitters, transport, translocate, emergency salvage, and release | Renew.
53825B | Zoological Society of San Diego (Ignacio Vilchis), San Diego, California | • California least tern (Sterna antillarum browni) | CA | Survey, locate and monitor nests; mark and measure eggs; use decoys; utilize acoustic playback and recording devices in the colony; install and remove fence pens; radio tag (attach radio-transmitters to chicks) for the purposes of mark-recapture study; erect and use cameras to monitor nesting sites; use data loggers in nests; erect temporary hides inside the colony; deploy GPS loggers and nanotags, and remove geolocators from adults; collect blood and pull contour feathers from adults; collect or bury non-viable eggs; capture, handle, measure, band, color-band, and release | Renew.
168924 | Jeff Gurule, North Fork, California | • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) | CA | Survey, capture, handle, and release, collect adult vouchers, and collect branchiopod cysts | Renew.
98997 | Gregory Warrick, Tehachapi, California | • Giant kangaroo-rat (Dipodomys ingens) • Tipton kangaroo-rat (Dipodomys nitratoides nitratoides) | CA | Capture, mark, handle, and release | Renew.
13632B | Elena Gregg, Chico, California | • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) | CA | Survey, capture, handle, and release; collect adult vouchers, and collect branchiopod cysts | Renew.
026659 | Ventana Wildlife Society, Monterey, California | • California condor (Gymnogyps californianus) | CA | Capture, handle, and release; bring into and maintain in temporary captivity; collect biological samples; attach transmitters and wing tags; track; provide supplemental feed in the wild; transport; enter nests for management and monitoring purposes; collect and exchange wild and captive eggs; collect and transfer molted feathers; collect microtrash from nests; flush individuals at risk; and administer health and veterinary care | Renew.
PER0046364 | Geoff Hoetker, Atascadero, California | • Fresno kangaroo-rat (Dipodomys nitratoides exilis) • Giant kangaroo-rat (Dipodomys ingens) • Tipton kangaroo-rat (Dipodomys nitratoides nitratoides) • Morro shoulderband snail (Helminthoglypta walkeriana) | CA | Survey, capture, handle, measure, relocate, and release | New.
035336 | Vollmar Natural Lands Consulting, Berkeley, California | • Large-flowered fiddleneck (Amsinckia grandiflora) • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) • California tiger salamander (Ambystoma californiense), Sonoma County and Santa Barbara County distinct population segments | CA | Collect tissue, seeds, and whole plants; survey, capture, handle, measure, relocate, release, and conduct habitat restoration activities; collect adult vouchers, and collect branchiopod cysts | Renew.
225974 | Midpeninsula Regional Open Space District, Los Altos, California | • San Francisco garter snake (Thamnophis sirtalis tetrataenia) | CA | Survey, capture, handle, transfer, mark, collect tissue, and release | Renew.
815144 | Rosemary Thompson, Loveland, Colorado | • Tidewater goby (Eucyclogobius newberryi) • Unarmored threespine stickleback (Gasterosteus aculeatus williamsoni) • California tiger salamander (Ambystoma californiense), Sonoma County and Santa Barbara County distinct population segments | CA | Survey, capture, handle, release, collect voucher specimens, collect tail tissue, perform habitat restoration | Renew.
PER0046365 | Kimberly Feree, Encinitas, California | • Southwestern willow flycatcher (Empidonax traillii extimus) • Least Bell's vireo (Vireo bellii pusillus) | CA | Play recorded vocalizations; locate and monitor nests | New.
063608 | Brian Lohstroh, San Diego, California | • Southwestern willow flycatcher (Empidonax traillii extimus) • Least Bell's vireo (Vireo bellii pusillus) • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) • Quino checkerspot butterfly (Euphydryas editha quino) | CA, NV, AZ, NM, UT, TX, CO | Play recorded vocalizations, survey, locate nests, monitor nests, capture, handle, release, collect adult vouchers, and collect branchiopod cysts | Renew.
PER0046366 | Kristin E. Smith, Sacramento, California | • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) | CA, OR | Harass by survey, capture, handle, and release, collect adult vouchers, and collect branchiopod cysts | New.
157291 | National Park Service—Pinnacles National Park, Paicines, California | • California condor (Gymnogyps californianus) | CA | Capture, maintain in temporary captivity, collect biological samples and feathers, attach transmitters and wing tags, track, provide supplemental feed in the wild, transport, enter nests for management and monitoring purposes, collect and exchange wild and captive eggs, collect microtrash from nests, flush individuals at risk, and administer health and veterinary care | Renew.
027742 | University of California, Davis—Fish Conservation and Culture Lab, Byron, California | • Delta smelt (Hypomesus transpacificus) | CA | Capture, handle, collect, transport, hold in captivity, captive breed, captive rear, conduct captive research, and conduct research of contained specimens in the wild | Renew.
94654B | Mesa Biological, LLC, Bakersfield, California | • Fresno kangaroo-rat (Dipodomys nitratoides exilis) • Giant kangaroo-rat (Dipodomys ingens) • Tipton kangaroo-rat (Dipodomys nitratoides nitratoides) • Morro Bay kangaroo-rat (Dipodomys heermanni morroensis) | CA | Survey, capture, handle, and release | Renew.
106908 | Manna Warburton, San Diego, California | • Mountain yellow-legged frog [southern Distinct Population Segment] (Rana muscosa) • Tidewater goby (Eucyclogobius newberryi) • Unarmored threespine stickleback (Gasterosteus aculeatus williamsoni) | CA | Survey, capture, handle, and release | Renew.
758175 | Griffith Wildlife Biology, Calumet, Michigan | • Yuma Ridgway's rail (Rallus obsoletus yumanensis) • Light-footed Ridgway's rail (Rallus obsoletus levipes) • Southwestern willow flycatcher (Empidonax traillii extimus) • Least Bell's vireo (Vireo bellii pusillus) | CA, AZ, NM, NV | Survey using recorded vocalization, locate and monitor nests, remove brown-headed cowbird (Molothrus ater) eggs and chicks from parasitized nests, capture, handle, band, and release | Renew.
98536C | Stillwater Sciences, Berkeley, California | • Tidewater goby (Eucyclogobius newberryi) • California freshwater shrimp (Syncaris pacifica) • Sierra Nevada yellow-legged frog (Rana sierrae) | CA | Survey, capture, handle, and release | Renew.
166393 | Peter Trenham, Philadelphia, Pennsylvania | • California tiger salamander (Ambystoma californiense), Sonoma County and Santa Barbara County distinct population segments | CA | Survey, capture, handle, release, apply artificial egg laying substrates, and conduct training workshops | Renew.
097845 | ManTech SRS Technologies, Inc., Lompoc, California | • Southwestern willow flycatcher (Empidonax traillii extimus) • El Segundo blue butterfly (Euphilotes battoides allyni) • Unarmored threespine stickleback (Gasterosteus aculeatus williamsoni) • Tidewater goby (Eucyclogobius newberryi) • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis | CA | Survey using recorded vocalizations; survey by pursuit and incidentally handle and release larvae during host plant seed collection; survey, capture, handle, and release; capture, handle, release; and collect adult vouchers and/or branchiopod cysts | Renew and Amend.
PER0038125 | Carla Angulo, San Jose, California | • Salt marsh harvest mouse (Reithrodontomys raviventris) | CA | Survey, capture, handle, and release | New.
02971C | University of California, Irvine, Stephen G. Weller, Irvine, California | • Schiedea hawaiiensis (ma' oli `oli) | CA, HI | Collect tissue, seeds, and whole plants, transfer, conduct genetic research | Renew.
144964 | Derek S. Jansen, Brentwood, California | • California tiger salamander (Ambystoma californiense), Sonoma County and Santa Barbara County distinct population segments | CA | Survey, capture, handle, and release | Renew.
823990 | Wildwing, Atascadero, CA | • California least tern (Sterna antillarum browni) | CA | Survey, locate nests, monitor nests | Renew.
793645 | Donald W Alley, Brookdale, California | • Tidewater goby (Eucyclogobius newberryi) | CA | Survey, capture, handle, release, and collect voucher specimens | Renew.
832946 | James E. Pike, Huntington Beach, California | • Southwestern willow flycatcher (Empidonax traillii extimus) • Least Bell's vireo (Vireo bellii pusillus) | CA | Survey using recorded vocalization, locate and monitor nests, and remove brown-headed cowbird (Molothrus ater) eggs and chicks from parasitized nests | Renew.
17841A | Tetra Tech, Inc., Santa Barbara, California | • California least tern (Sterna antillarum browni) | CA | Survey, locate and monitor nests | Renew.
069534 | Victor Novik, San Diego, California | • Riverside fairy shrimp (Streptocephalus woottoni) • San Diego fairy shrimp (Branchinecta sandiegonensis) • Quino checkerspot butterfly (Euphydryas editha quino) | CA | Survey, pursue, capture, handle, release, collect adult vouchers, and collect branchiopod cysts | Renew.
790167 | United States Geological Survey—Santa Barbara Field Station, Santa Barbara, California | • Tidewater goby (Eucyclogobius newberryi) | CA | Survey, capture, handle, release, and collect voucher specimens | Renew.
58888A | Dale Ritenour, New Orleans, Louisiana | • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) • Quino checkerspot butterfly (Euphydryas editha quino) | CA | Survey, pursue, capture, handle, release, collect adult vouchers, and collect branchiopod cysts | Renew.
14532C | Hannah Donaghe, Carpinteria, California | • Tidewater goby (Eucyclogobius newberryi) | CA | Survey, capture, handle, and release | Renew.
31406A | California State Parks—Central Valley District, Ventura, California | • California least tern (Sterna antillarum browni) | CA | Survey, locate and monitor nests, install symbolic fencing, and install and use remote cameras in nesting areas | Renew.
068799 | Mikael Romich, Redlands, California | • Southwestern willow flycatcher (Empidonax traillii extimus) • San Bernardino Merriam's kangaroo-rat (Dipodomys merriami parvus) • Stephens' kangaroo-rat (Dipodomys stephensi) | CA, NV, AZ | Survey, capture, handle, and release | Renew.
PER0046430 | Russell Sweet, Shafter, California | • Giant kangaroo-rat (Dipodomys ingens) • Tipton kangaroo-rat (Dipodomys nitratoides nitratoides) • Fresno kangaroo-rat (Dipodomys nitratoides exilis) | CA | Survey, trap, capture, handle, and release | Renew.
785148 | Wood Environment & Infrastructure, San Diego, California | • Southwestern willow flycatcher (Empidonax traillii extimus) • Stephens' kangaroo-rat (Dipodomys stephensi) • Pacific pocket mouse (Perognathus longimembris pacificus) • Quino checkerspot butterfly (Euphydryas editha quino) • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) | CA | Pursue, survey using recorded vocalization; capture, handle, measure, mark, and release; collect adult vouchers; and collect branchiopod cysts | Renew.
76732A | Jennifer Kendrick, Encinitas, California | • Southwestern willow flycatcher (Empidonax traillii extimus) | CA | Survey using recorded vocalization | Renew.

Public Availability of Comments

Written comments we receive become part of the administrative record associated with this action. Before including your address, phone number, email address, or other personal identifying information in your comment, you should be aware that your entire comment—including your personal identifying information—may be made publicly available at any time. While you can request in your comment that we withhold your personal identifying information from public review, we cannot guarantee that we will be able to do so. All submissions from organizations or businesses, and from individuals identifying themselves as representatives or officials of be made available for public disclosure in their entirety.

Next Steps

If we decide to issue permits to any of the applicants listed in this notice, we will publish a notice in the Federal Register.

Authority

We publish this notice under section 10(c) of the Endangered Species Act of 1973, as amended (16 U.S.C. 1531 et seq.).

Peter Erickson,
Acting Regional Endangered Species Program Manager, Pacific Southwest Region, Sacramento, California.

[FR Doc. 2022-16636 Filed 8-2-22; 8:45 am]

BILLING CODE 4333-15-P